DEPARTMENT OF TRANSPORTATION

Federal Aviation Administration

Notice of Intent To Request Revision From the Office of Management and Budget of a Currently Approved Information Collection Activity, Request for Comments; Human Space Flight Requirements for Crew and Space Flight Participants

AGENCY: Federal Aviation Administration (FAA), DOT.

ACTION: Notice and request for comments.

SUMMARY: The FAA invites public comments about our intention to request the Office of Management and Budget (OMB) to approve a current information collection. The FAA has established requirements for human space flight crew and space flight participants as required by the Commercial Space Launch Amendments Act of 2004.

DATES: Please submit comments by December 15, 2009.

FOR FURTHER INFORMATION CONTACT: Carla Mauney on (202) 267-9895, or by e-mail at: Carla.Mauney@faa.gov.

SUPPLEMENTARY INFORMATION:

Federal Aviation Administration (FAA)

Title: Human Space Flight Requirements for Crew and Space Flight Participants.

Type of Request: Extension without change of an approved collection.

OMB Control Number: 2120-0720.

Form(s): There are no FAA forms associated with this collection.

Affected Public: A total of 5 respondents.

Frequency: The information is collected on occasion.

Estimated Average Burden per Response: Approximately 4 hours per response.

Estimated Annual Burden Hours: An estimated 2,975 hours annually.

Abstract: The FAA has established requirements for human space flight crew and space flight participants as required by the Commercial Space Launch Amendments Act of 2004. This rulemaking established requirements for crew qualifications, training and notification, and training and informed consent requirements for space flight participants. The rulemaking also modified existing financial responsibility requirements to account for space flight participants, crew, and FAA's new authority to issue an experimental permit.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on October 8, 2009.
Carla Mauney,
FAA Information Collection Clearance Officer, IT Enterprises Business Services Division, AES-200.

[FR Doc. E9-24759 Filed 10-15-09; 8:45 am]

BILLING CODE 4910-13-M